DEPARTMENT OF LABOR

Employment and Training Administration

[TA-W-61,810]

B.G. Sulzle, Inc., Currently Known as Angiotech America, Inc., Including On-Site Leased Workers From Contemporary Personnel Services (CPS) and Staffworks, North Syracuse, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on August 7, 2007, applicable to workers of B.G. Sulzle, Inc., including on-site leased workers from Contemporary Personnel Services and Staffworks, North Syracuse, New York. The notice was published in the Federal Register on August 27, 2007 (72 FR 49024).

At the request of the State agency, the Department reviewed the certification for workers of the subject firm. The workers are engaged in employment related to the production of stainless steel surgical needles.

New information shows that on March 22, 2006, Angiotech America, Inc. purchased B.G. Sulzle, Inc. and is currently known as Angiotech America, Inc. Workers wages at the subject firm are being reported under a separate Unemployment Insurance (UI) tax account for Angiotech America, Inc.

Accordingly, the Department is amending this certification to properly reflect this matter.

The amended notice applicable to TA-W-61,810 is hereby issued as follows:

“All workers of B.G. Sulzle, Inc., currently known as Angiotech America, Inc., including on-site leased workers from Contemporary Personnel Services (CPS) and Staffworks, North Syracuse, New York, who became totally or partially separated from employment on or after July 9, 2006, through August 7, 2009, are eligible to apply for adjustment assistance under Section 223 of the Trade Act of 1974, and are also eligible for alternative trade adjustment assistance under Section 246 of the Trade Act of 1974.”

Signed at Washington, DC, this 12th day of September 2008.
Linda G. Poole,
Certifying Officer, Division of Trade Adjustment Assistance.

[FR Doc. E8-22121 Filed 9-22-08; 8:45 am]

BILLING CODE 4510-FN-P